DEPARTMENT OF DEFENSE

Office of the Secretary

[Docket ID: DOD-2008-OS-0038]

Privacy Act of 1974; Computer Matching Program

AGENCY: Defense Manpower Data Center (DMDC), DoD.

ACTION: Notice of a Computer Matching Program.

SUMMARY: Subsection (e)(12) of the Privacy Act of 1974, as amended (5 U.S.C. 552a), requires agencies to publish advanced notices of any proposed or revised computer matching program by the matching agency for public comment. The Department of Defense (DoD), as the matching agency under the Privacy Act, is hereby giving notice to the record subjects of a computer matching program between the DoD and the Department of Health and Human Services (HHS) acting on behalf of the State Public Assistance Agencies (SPAA). The purpose of the computer matching program is to exchange personal data for purposes of identifying individuals who are receiving Federal compensation or pension payments and also are receiving payments pursuant to Federal benefit programs being administered by the States.

DATES: This proposed action will become effective May 30, 2008 and matching may commence unless changes to the matching program are required due to public comments or by Congressional or by Office of Management and Budget objections. Any public comment must be received before the effective date.

ADDRESSES: Any interested party may submit written comments to the Director, Defense Privacy Office, 1901 South Bell Street, Suite 920, Arlington, VA 22202-4512.

FOR FURTHER INFORMATION CONTACT: Samuel P. Jenkins at (703) 607-2943.

SUPPLEMENTARY INFORMATION: Pursuant to subsection (o) of the Privacy Act of 1974, as amended (5 U.S.C. 552a), the DHHS and DMDC have concluded an agreement to conduct a computer matching program between agencies. The purpose of the computer matching program is to exchange personal data for purposes of identifying individuals who are receiving Federal compensation or pension payments and also are receiving payments pursuant to Federal benefit programs being administered by the States.

The parties to this agreement have determined that a computer matching program is the most efficient, expeditious, and effective means of obtaining and processing the information needed by the SPAAs to identify individuals who may be ineligible for public assistance benefits. The principal alternative to using a computer matching program for identifying such individuals would be to conduct a manual comparison of all Federal personnel records with SPAA records of those individuals currently receiving public assistance under a Federal benefit program being administered by the State. Conducting a manual match, however, would clearly impose a considerable administrative burden, constitute a greater intrusion of the individual's privacy, and would result in additional delay in determining eligibility and, if applicable, the eventual recovery of any outstanding debts.

A copy of the computer matching agreement between HHS and DoD is available upon request. Requests should be submitted to the address caption above or to the HHS, Administration for Children and Families, 370 L'Enfant Promenade, SW., Washington, DC 20447.

Set forth below is the notice of the establishment of a computer matching program required by paragraph 6.c. of the Office of Management and Budget Guidelines on computer matching published on June 19, 1989, at 54 FR 25818.

The matching agreement, as required by 5 U.S.C. 552a(r) of the Privacy Act, and an advance copy of this notice was submitted on March 2008 to the House Committee on Government Reform, the Senate Committee on Homeland Security and Governmental Affairs, and the Administrator of the Office of Information and Regulatory Affairs, Office of Management and Budget pursuant to paragraph 4d of Appendix I to OMB Circular No. A-130, ‘Federal Agency Responsibilities for Maintaining Records about Individuals’, dated February 8, 1996 (February 20, 1996, 61 FR 6427).

Dated: April 23, 2008.
Patricia L. Toppings,
OSD Federal Register Liaison Officer, Department of Defense.

Notice of a Computer Matching Program Among the Defense Manpower Data Center, the Department of Defense; the Administration for Children and Families, Department of Health and Human Services; and State Public Assistance Agencies for Verification of Continued Eligibility for Public Assistance

A. Participating Agencies: Participants in this computer matching program are State Public Assistance Agencies (SPAA), the Department of Health and Human Services (HHS), and the Department of Defense (DoD). The SPAA is the source agency, the agency disclosing the records for purpose of the match; HHS is the facilitating agency, the agency acting on behalf of the SPAAs; and DoD is the matching agency, the agency that actually performs the match.

B. Purpose of the Match: To provide the SPAAs with data from Federal employee wage and pension files to determine eligibility and to ensure fair and equitable treatment in the delivery of benefits attributable to funds provided by the Federal government. The SPAAs will use the matched data to verify the continued eligibility of individuals to receive public assistance benefits and, if ineligible, to take such action as may be authorized by law and regulation. Administration for Children and Family (ACF), in its role as match facilitator, will support each SPAA's efforts to ensure appropriate delivery of benefits by assisting with drafting the necessary agreements, helping arranging signatures to the agreements, and acting as a central shipping point as necessary.

C. Authority for Conducting the Match: The legal authority for conducting the matching program is contained in sections 402 and 1137 of the Social Security Act (42 U.S.C. 602 and 1320b-7).

D. Records To Be Matched: The systems of records maintained by the respective agencies under the Privacy Act of 1974, as amended, 5 U.S.C. 552a, from which records will be disclosed for the purpose of this computer match are as follows:

1. Federal, but not State, agencies must publish system notices for “systems of records” pursuant to subsection (e)(4) of the Privacy Act and must identify “routine uses” pursuant to subsection (b)(3) of the Privacy Act for those systems of records from which they intend to disclose this information. The DoD system of records described below contains an appropriate routine use proviso, which permits disclosure of information by DMDC to ACF and the SPAAs.

2. DoD will use personal data from the record system identified as DMDC 01, System name: Defense Manpower Data Center Data Base January 31, 2008, published in the Federal Register at 73 FR 5820.

3. HHS will be disclosing, as applicable, to DMDC personal data it has collected from the SPAAs. No information will be disclosed from systems of records that ACF operates and maintains. HHS will be disclosing, as applicable, to the SPAAs personal data it has received from DMDC. The DMDC supplied matched data will be disclosed by ACF pursuant to the DoD routine use.

E. Description of Computer Matching Program: Each participating SPAA will send ACF an electronic file of eligible public assistance client information. These files are non-Federal computer records maintained by the states. ACF will then send this information to DMDC. In the alternative, participating SPAAs can submit files directly to DMDC. After DMDC receives the SPAA data, it will match the data against the DMDC database. The Database consists of personnel records of non-postal Federal civilian employees and military members, both active and retired. Resulting “hits” or matches will be disclosed to the SPAA that submitted the client information.

1. The electronic files provided by ACF and the SPAAs will contain data elements of the client's name, SSN, date of birth, address, sex, marital status, number of dependents, information regarding the specific public assistance benefit being received, and such other data as considered necessary and on no more than 10,000,000 public assistance beneficiaries.

2. The DMDC computer database file contains approximately 4.85 million records of active duty and retired military members, including the Reserve and Guard, and approximately 3.68 million records of active and retired non-postal Federal civilian employees.

3. DMDC will match the SSN on the ACF/SPAA file by computer against the DMDC database. Matching records, “hits” based on SSNs, will produce data elements of the individual's name; SSN; active or retired; if active, military service or employing agency, and current work or home address, and other relevant information.

F. Inclusive Dates of the Matching Program: The effective date of the matching agreement and date when matching may actually begin shall be at the expiration of the 40-day review period for OMB and Congress, or 30 days after publication of the matching notice in the Federal Register, whichever date is later. The parties to this agreement may assume OMB and Congressional concurrence if no comments are received within 40 days of the date of the transmittal letter. The 40-day OMB and Congressional review period and the mandatory 30-day public comment period for the Federal Register publication of the notice will run concurrently. By agreement between HHS and DoD, the matching program will be in effect for 18 months with an option to renew for 12 additional months unless one of the parties to the agreement advises the other by written request to terminate or modify the agreement.

G. Address for Receipt of Public Comments or Inquiries: Director, Defense Privacy Office, 1901 South Bell Street, Suite 920, Arlington, VA 22202-4512. Telephone (703) 607-2943.

[FR Doc. E8-9396 Filed 4-29-08; 8:45 am]

BILLING CODE 5001-06-P